DEPARTMENT OF COMMERCE

National Oceanic and Atmospheric Administration

[I.D. 071305C]

Endangered Species; Permit No. 1254

AGENCY: National Marine Fisheries Service (NMFS), National Oceanic and Atmospheric Administration (NOAA), Commerce.

ACTION: Notice; modification of scientific research permit.

SUMMARY: Notice is hereby given that a request for a modification to scientific research permit No. 1254 submitted by Dynegy Northeast Generation, Inc. (Martin W. Daley, Principal Investigator), Regulatory & Administrative Services, 992-994 River Road, Newburgh, New York, 12550, has been granted.

ADDRESSES: The modification and related documents are available for review upon written request or by appointment in the following office(s):

Permits, Conservation and Education Division, Office of Protected Resources, NMFS, 1315 East-West Highway, Room 13705, Silver Spring, MD 20910; phone (301)713-2289, fax (301) 427-2521; and

Northeast Region, NMFS, One Blackburn Drive, Gloucester, MA 01930-2298; phone (978)281-9328; fax (978)281-9394.

FOR FURTHER INFORMATION CONTACT: Shane Guan and Patrick Opay (301)713-2289.

SUPPLEMENTARY INFORMATION: The requested modification has been granted under the authority of the Endangered Species Act of 1973, as amended (ESA; 16 U.S.C. 1531 et seq.) and the provisions of § 222.306 of the regulations governing the taking, importing, and exporting of endangered and threatened fish and wildlife (50 CFR 222-226).

Dynegy Northeast Generation, Inc. is authorized to capture, handle, measure, externally tag, and release 95 juvenile and adult shortnose sturgeon (Acipenser brevirostrum) and to collect 40 shortnose sturgeon larvae annually in the Hudson River between the estuary and River mile 152. The objectives of the study are to describe the patterns and variability of environmental parameters that may affect fish distribution and abundance of 16 selected species of fish, including shortnose sturgeon, in the Hudson River Estuary and provide information on length frequency where applicable. This modification will extend the permit through August 31, 2006.

Issuance of this modification, as required by the ESA was based on a finding that such permit: (1) Was applied for in good faith; (2) will not operate to the disadvantage of any endangered or threatened species; and (3) is consistent with the purposes and policies set forth in section 2 of the ESA.

Dated: July 21, 2005.
Stephen L. Leathery,
Chief, Permits, Conservation and Education Division, Office of Protected Resources, National Marine Fisheries Service.

[FR Doc. 05-14877 Filed 7-26-05; 8:45 am]

BILLING CODE 3510-22-S